DEPARTMENT OF TRANSPORTATION

Federal Aviation Administration

Notice of Intent To Release Airport Property; Brooksville-Tampa Bay Regional Airport, Brooksville, FL

AGENCY: Federal Aviation Administration (FAA), DOT.

ACTION: Request for public comment.

SUMMARY: The FAA hereby provides notice of intent to release approximately 17.94 acres of airport property at the Brooksville-Tampa Bay Regional Airport, Brooksville, FL, from the terms, conditions, reservations, and restrictions as contained in federal grant assurances. The release of property will allow the Hernando County Board of Commissioners to dispose of the property for other than aeronautical purposes. The property is located north of the airfield on the south side of Spring Hill Drive, Brooksville, Florida. The parcel is currently designated as aeronautical land use. The property will be released of its federal obligations for the relocation and consolidation of the Hernando County government headquarter facilities. The fair market value of the parcel has been determined to be $1,794,000.

DATES: Comments are due on or before February 12, 2021.

ADDRESSES: Documents are available for review at Brooksville-Tampa Bay Regional Airport, 15800 Flight Path Drive, Brooksville, Florida 34604; and the FAA Airports District Office, 8427 SouthPark Circle, Suite 524, Orlando, FL 32819-9058. Written comments on the Sponsor's request must be delivered or mailed to: Jenny Iglesias-Hamann, Community Planner, Orlando Airports District Office, 8427 SouthPark Circle, Suite 524, Orlando, FL 32819-9058. Documents reflecting the Sponsor's request are available for inspection by appointment only at the Brooksville-Tampa Bay Regional Airport and by contacting the FAA at the address listed above.

FOR FURTHER INFORMATION CONTACT: Jenny Iglesias-Hamann, Community Planner, Orlando Airports District Office, 8427 SouthPark Circle, Suite 524, Orlando, FL 32819-9058.

SUPPLEMENTARY INFORMATION: Section 125 of The Wendell H. Ford Aviation Investment and Reform Act for the 21st Century (AIR-21) requires the FAA to provide an opportunity for public notice and comment prior to the “waiver”

or “modification” of a sponsor's Federal obligation to use certain airport land for non-aeronautical purposes.

Issued in Orlando, Florida, on January 8, 2021.
Bartholomew Vernace,
Manager, Orlando Airports District Office, Southern Region.

[FR Doc. 2021-00497 Filed 1-12-21; 8:45 am]

BILLING CODE 4910-13-P